DEPARTMENT OF STATE

[Public Notice: 12309]

Termination of Iran, North Korea, and Syria Nonproliferation Act Measures Against an Indian Entity

ACTION: Notice.

SUMMARY: A determination has been made, pursuant to the Iran, North Korea, and Syria Nonproliferation Act, to terminate nonproliferation measures pursuant to this Act on an Indian entity.

DATES: January 18, 2024.

FOR FURTHER INFORMATION CONTACT: Pam Durham, Office of Missile, Biological, and Chemical Nonproliferation, Bureau of International Security and Nonproliferation, Department of State, Telephone (202) 647-4930, Email durhampk@state.gov.

SUPPLEMENTARY INFORMATION: Pursuant to the Iran, North Korea, and Syria Nonproliferation Act (Pub. L. 109-353), the U.S. Government decided on December 28, 2023 to terminate measures initially imposed on October 14, 2022 (see Volume 87 FR Public Notice 11887) on the Indian entity Synnat Pharma Pvt Ltd, and any successor, sub-unit, or subsidiary thereof.

Choo S. Kang,
Assistant Secretary for International Security and Nonproliferation, Department of State.

[FR Doc. 2024-00858 Filed 1-17-24; 8:45 am]

BILLING CODE 4710-27-P